DEPARTMENT OF LABOR

Occupational Safety and Health Administration

[Docket No. ICR 1218-0085 (2000)]

Agency Information Collection Activities; Announcement of OMB Approval

AGENCY: Occupational Safety and Health Administration (OSHA); Labor.

ACTION: Notice of approval.

SUMMARY: The Occupational Safety and Health Administration (OSHA) announces that the Office of Management and Budget (OMB) approved the Information Collection Request for the 13 Carcinogens Standard under the Paperwork Reduction Act of 1995. This document provides the OMB approval number and expiration date for this action.

FOR FURTHER INFORMATION CONTACT: Todd Owen, Directorate of Policy, Occupational Safety and Health Administration, U.S. Department of Labor, Room N-3627, 200 Constitution Avenue NW, Washington, DC 20210, telephone (202) 693—2444.

SUPPLEMENTARY INFORMATION: In the Federal Register of November 10, 1999 (64 FR 61369), the Agency announced its request to OMB to renew its current approval for 29 CFR 1910.1003, 29 CFR 1915.1003, and 29 CFR 1926.1103, the 13 Carcinogens Standard for the general, shipyard-employment, and construction industries, respectively. Consistent with the Paperwork Reduction Act of 1995 (44 U.S.C. 3501-3520), OMB renewed its approval of the Information Collection Request for this Standard (OMB Control Number 1218-0085). This approval expires March 31, 2003. Under 5 CFR 1320.5(b), an Agency cannot conduct, sponsor, or require a person to respond to a collection of information unless the collection displays a valid control number.

Authority and Signature

Charles N. Jeffress, Assistant Secretary of Labor for Occupational Safety and Health, directed the preparation of this notice. The authority for this notice is the Paperwork Reduction Act of 1995 (44 U.S.C. 3506) and Secretary of Labor's Order No. 6-96 (62 FR 111).

Signed at Washington, DC on June 30, 2000.
Charles N. Jeffress,
Assistant Secretary of Labor

[FR Doc. 00-17264 Filed 7-6-00; 8:45 am]

BILLING CODE 4510-26-M